DEPARTMENT OF TRANSPORTATION

Federal Highway Administration

Environmental Impact Statement: Montgomery and Prince George's Counties, MD

AGENCY: Federal Highway Administration (FHWA), DOT.

ACTION: Notice of intent.

SUMMARY: The FHWA is issuing this notice to advise the public that a Draft Environmental Impact Statement (EIS)/Draft Section 4(f) Evaluation will be prepared for a proposed roadway improvement project in Montgomery and Prince George's Counties, Maryland.

FOR FURTHER INFORMATION CONTACT: Mr. Daniel W. Johnson, Environmental Program Specialist, Federal Highway Administration, Maryland Division, The Rotunda, Suite 220, 711 W. 40th Street, Baltimore, Maryland 21211, Telephone: (410) 962-4342, extension 145.

SUPPLEMENTARY INFORMATION: The FHWA along with the Maryland State Highway Administration will prepare a Draft EIS with a draft Section 4(f) Evaluation for transportation improvements along the MD 28/MD 198 Corridor in Montgomery and Prince George's Counties. The U.S. Army Corps of Engineers and U.S. Environmental Protection Agency will be invited to be cooperating agencies. The proposed project includes widening improvements along MD 28 (Norbeck Road), Norbeck Road Extended and MD 198 (Spencerville Road/Sandy Spring Road) from the vicinity of MD 97 (Georgia Avenue) to the vicinity of I-95 (approximately 10.6 miles).

Proposed improvements along this corridor are necessary because MD 28 and MD 198 are currently operating near capacity in some areas between MD 97 in Montgomery County and I-95 in Prince George's County. The 2002 completion of Montgomery County's Norbeck Road Extended project provides a direct connection of MD 28 and MD 198, reducing travel time between MD 182 (Layhill Road) and MD 650 (New Hampshire Avenue). Traffic operations in the study corridor are expected to worsen as planned and future development occurs and congestion increases. The local roadway network will reach capacity and will be unable to accommodate this increased travel demand leading to stop-and-go conditions at locations along the corridor. Improvements within the corridor will accommodate existing and projected travel demand, while addressing safety concerns.

The alternates under consideration include (1) No-Build Alternate—taking no action, (2) Transportation Systems Management Alternate—providing a wide range of spot improvements throughout the corridor that address the most serious concerns at specific location or segments of roadway (e.g., intersection improvements, geometric improvements, access management strategies, and center turn lanes) and (3) Master Plan Features Alternate—incorporating roadway improvements, including roadway widening, to MD 28, Norbeck Road Extended and MD 198 within the study limits as called for in the local area master plans.

Other transportation projects within the vicinity of the MD 28/MD 198 Corridor Improvement Study are under way or under study; including the MD 28/MD 97 interchange, the MD 198/US 29 interchange and the Intercounty Connector (ICC). A Public Hearing was held for the MD 28/MD 97 interchange in December 2002. The MD 198/US 29 interchange is currently under construction, anticipated to be complete in the Fall 2004. The Public Hearing for the ICC is tentatively scheduled for the Fall 2004.

Letters describing the proposed action and soliciting comments will be sent to appropriate Federal, State, local agencies, private organizations, and citizens who have previously expressed or are known to have an interest in this project. A Public Hearing is tentatively scheduled for the Winter 2003/2004. The Draft EIS/Draft Section 4(f) Evaluation will be available for public and agency review and comment prior to a Public Hearing. Public notice will be given of the availability of the Draft EIS/4(f) for review and of the time and place of this hearing.

To ensure that the full range of issues related to this proposed action are addressed and all significant issues identified, comments and suggestions are invited from all interested parties.

Comments or questions concerning these proposed actions and EIS should be directed to the FHWA at the address provided above (Catalog of Federal Domestic Assistance Program Number 20.205, Highway Research, Planning and Construction. The regulations implementing Executive Order 12372 regarding intergovernmental consultation of Federal programs and activities apply to this program).

Issued on: August 14, 2003.
Daniel W. Johnson,
Environmental Program Manager, Baltimore, Maryland.

[FR Doc. 03-22037 Filed 8-27-03; 8:45 am]

BILLING CODE 4910-22-M